DEPARTMENT OF THE INTERIOR

Bureau of Indian Affairs

Colorado River Tribe-Health and Safety Code, Article 2—Liquor

AGENCY: Bureau of Indian Affairs, Interior.

ACTION: Notice.

SUMMARY: This notice publishes an amendment to the Colorado River Tribal Health and Safety Code, Article 2, Liquor, Chapter 6, Sections 2-601 through 620. The Code regulates and controls the possession, sale and consumption of liquor within the Colorado River Tribe's Reservation. The land is located on trust land and this Code allows for the possession and sale of alcoholic beverages within Colorado River Tribe's Reservation. This Code will increase the ability of the tribal government to control the distribution and possession of liquor within their reservation and at the same time will provide an important source of revenue and strengthening of the tribal government and the delivery of tribal services.

DATES: Effective Date: This Act is effective as of September 28, 2007.

FOR FURTHER INFORMATION CONTACT: Sharlot Johnson, Tribal Government Services Officer, Western Regional Office, Bureau of Indian Affairs, 400 N. 5th Street, Two Arizona Center, 12th Floor, Phoenix, Arizona 85001; Telephone (602) 379-6786; Fax (602) 379-4100; or Elizabeth Colliflower, Office of Tribal Services, 1849 C Street, NW., Mail Stop 4513-MIB, Washington, DC 20240; Telephone (202) 513-7627; Fax (202) 208-5113.

SUPPLEMENTARY INFORMATION: Pursuant to the Act of August 15, 1953; Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Colorado River Tribal Council adopted this amendment to the Colorado River Tribal Health and Safety Code, Article 2, Liquor by Ordinance No. 04-1 on March 12, 2004.

This notice is published in accordance with the authority delegated by the Secretary of the Interior to the Assistant Secretary—Indian Affairs. I certify that the Tribal Council duly adopted this amendment to the Colorado River Indian Tribes—Health and Safety Code, Article 2—Liquor on March 12, 2004.

Dated: September 21, 2007.
Carl J. Artman,
Assistant Secretary—Indian Affairs.

The amendment to Colorado River Indian Tribes-Health and Safety Code, Article 2—Liquor, Chapter 6, Sections 2-601 through 620 reads as follows:

Chapter 6. Bar, Liquor and Package Liquor Privilege Tax

Section 2-601. General Purpose.

The Colorado River Indian Tribes have a significant interest in protecting the health, safety and general welfare of its members, the residents within the boundaries of the Reservation and those persons and businesses doing business on and/or visiting the Reservation. The purpose of the bar, liquor and package liquor privilege tax is to regulate and monitor the sale of alcohol within the boundaries of the Reservation and to raise revenues to fund health, safety and general welfare programs and services.

Section 2-602. Definitions.

In addition to the definitions in Section 2-101, for purposes of this Chapter, whenever any of the following words, terms or definitions is used herein, they shall have the meaning ascribed to them in this Chapter:

(1) “Bar” means and includes an establishment used, maintained, advertised and held out to the public as a place which serves liquor.

(2) “Department” shall mean the Department of Revenue and Finance of the Colorado River Indian Tribes which is responsible for the administration and enforcement of the tax revenue laws of the Tribes and the investigation, examination and audit of tribal finances, departments, offices, officers and employees.

(3) “Director” shall mean the Director of the Department of Revenue and Finance of the Colorado River Indian Tribes.

(4) “Packaged liquor at retail” means a place of business in which the premises are used for the retail sale of liquor in original package for consumption off the premises where sold.

(5) “Records” shall mean any books, papers, documents, memoranda, supporting documents, schedules, attachments, lists, computer records, electronic data, business records, papers, vouchers, accounts and financial statements.

(6) “Return” or “Tax Return” shall mean any form, report or document prescribed and approved by the Department for the return of a tax obligation including any supporting schedules, attachments, worksheets and lists.

(7) “Taxes” shall include taxes, interest, penalties and costs of collection assessed or imposed pursuant to this Chapter or Title 20: Taxation of the Tribal Code.

Section 2-603. Imposition of Tax.

There is hereby levied and imposed a tax upon the privilege of receiving a liquor license to sell liquor served or prepared at either a restaurant or bar within the boundaries of the Colorado River Indian Reservation and upon privilege of receiving a liquor license to sell packaged liquor at retail within the boundaries of the Reservation.

Section 2-604. Rate of Tax.

The tax rate imposed under this Chapter shall be established by the Tribal Council of the Colorado River Indian Tribes and shall be no less than two percent (2%) nor more than ten percent (10%) of the purchase price of the liquor. Until the tax rate is changed by Resolution of the Tribal Council, the current tax rate imposed under this Chapter shall be levied, imposed and collected at the rate of six and six-tenths percent (6.6%) of the purchase price of the liquor.

Section 2-605. Tax is Additional Tax.

The tax herein levied and imposed shall be in addition to all other taxes and fees.

Section 2-606. Exemptions.

The provision of liquor by a person or entity not occurring at a place of business held out as a retailer of such liquor is exempt from the provisions of this Chapter.

Section 2-607. Liability for Payment.

(1) The legal incidence of and liability for payment of said tax shall be on the “retailer”.

(2) Each retailer within the boundaries of the Reservation, regardless of whether they are licensed under this Article, shall have the duty to collect and account for the tax imposed herein, and shall remit all due and owing taxes from the sale of liquor and/or packaged alcoholic liquor to consumers, whether such payment is by credit or cash, to the Department of Revenue and Finance at the time such payment is due.

Section 2-608. Collection of Tax.

The invoice, receipt or other statement of payment given to the consumer at the time of payment shall show the amount due under the tax provided herein which shall be stated separately on said invoice, receipt or statement. The retailer shall be liable for the payment of the tax to the Tribes, whether any additional fee is actually collected from the consumer.

Section 2-609. Payment of Tax.

Payment of the tax shall be made at the time the tax return is due.

Section 2-610. Administration.

All provisions of Title 20 of the Tribal Code, the Taxation Code, Article I, shall apply to this Chapter.

Section 2-611. Tax Identification Number.

Upon receipt of an application for a license with the Board pursuant to Chapter 2 of this Article, all retailers intending to conduct business within the boundaries of the Reservation or currently conducting business within the boundaries of the Reservation on the effective date of this Article shall, within thirty (30) days of the effective date of this Article, be assigned a taxpayer identification number by the Department pursuant to Title 20, Section 20-1417.

Section 2-612. Filing of Return.

All retailers shall pay to the Department of Revenue and Finance all taxes under this Chapter. Each retailer that sells liquor and/or packaged liquor at retail within the boundaries of the Reservation shall file monthly tax returns showing tax receipts received during each monthly period on forms prescribed by the Department. The tax return shall be filed before the last day of the calendar month next succeeding the month for which the tax return is made and shall be accompanied by payment of all taxes due and owing for the month covered by said tax return.

Section 2-613. Records.

All retailers shall maintain and preserve complete and accurate books, records and accounts showing the gross receipts for sales of liquor and/or packaged liquor at retail and the taxes collected each day and shall make available such books, records and accounts to the Director of the Department of Revenue and Finance for examination for those periods of time prescribed in Article I, Chapter 8 of the Taxation Code.

Section 2-614. Failure to Pay Tax.

Taxes that are not remitted to the Department of Revenue and Finance on or before the due date are delinquent.

Section 2-615. Violations; Additional Penalties.

Any retailer which violates, disobeys, omits, neglects or refuses to comply with, or resists or opposes the enforcement of any of the provisions of this Chapter, may be assessed a penalty of not less than Seventy-Five Dollars ($75.00) nor more than Five Thousand Dollars ($5,000.00) for the first violation, and not less than One Hundred Fifty Dollars ($150.00), nor more than Five Thousand Dollars ($5,000.00) for the second violation, and not less than Three Hundred Dollars ($300.00) nor more than Five Thousand ($5,000.00) for the third violation, and not less than One Thousand Dollars ($1,000.00) nor more than Ten Thousand Dollars ($10,000.00) for the fourth and each subsequent violation, or five (5) times the amount of the tax imposed, if any, whichever is higher, for the second and each subsequent violation. A separate and distinct violation shall be regarded as committed each day said retailer continues any such violation, or permits any such violation to exist after notification thereof. The penalties imposed under this Chapter shall be in addition to the tax and in addition to those penalties, if any, imposed under Article I, Chapter 7 of the Taxation Code.

Section 2-616. Promulgation of Regulations.

The Director shall have the power to promulgate regulations for the enforcement of the provisions of this Chapter and the collection of revenues hereunder.

Section 2-617. Amendments.

The provisions of this Chapter may be amended at the discretion of the Tribal Council by Ordinance or Resolution.

Section 2-618. Failure to Remit; Licensing.

Collection and payment of this tax may be enforced by action in any court of competent jurisdiction and failure to account for or pay the tax by retailers of taxable alcoholic liquor shall be cause for revocation of any license of such retailer or applicable to the premises thereof, in addition to any other penalty provided in this Article.

Section 2-619. Application to the Tribes.

The provisions of this Chapter shall apply to the Tribes including any governmental entity or enterprise of the Tribes. For purposes of this Chapter, the Tribes, including any governmental entity or enterprise of the Tribes, if applicable, shall be considered a “retailer.”

Section 2-620. Nondiscrimination.

No provision of this Chapter shall be construed as imposing a tax that discriminates on the basis of whether a bar, restaurant, packaged liquor store or similar establishment is owned, managed or operated by a member of the Tribes.

[FR Doc. E7-19150 Filed 9-27-07; 8:45 am]

BILLING CODE 4310-4J-P